INTERNATIONAL TRADE COMMISSION

[Investigation Nos. 731-TA-847 and 849 (Third Review)]

Carbon and Alloy Seamless Standard, Line, and Pressure Pipe From Japan and Romania

Determinations

On the basis of the record ¹ developed in these subject five-year reviews, the United States International Trade Commission (“Commission”) determines, pursuant to the Tariff Act of 1930 (“the Act”), that revocation of the antidumping duty orders on carbon and alloy seamless standard, line, and pressure pipe from Japan and Romania would be likely to lead to continuation or recurrence of material injury to an industry in the United States within a reasonably foreseeable time.²

¹ The record is defined in sec. 207.2(f) of the Commission's Rules of Practice and Procedure (19 CFR 207.2(f)).

² Commissioner Broadbent dissenting with respect to the antidumping duty order on subject imports from Romania.

Background

The Commission, pursuant to section 751(c) of the Act (19 U.S.C. 1675(c)), instituted these reviews on September 1, 2016 (81 FR 60383) and determined on December 5, 2016 that it would conduct full reviews (81 FR 91199, December 16, 2017). Notice of the scheduling of the Commission's reviews and of a public hearing to be held in connection therewith was given by posting copies of the notice in the Office of the Secretary, U.S. International Trade Commission, Washington, DC, and by publishing the notice in the Federal Register on April 5, 2017 (82 FR 16621). The hearing was held in Washington, DC, on August 8, 2017, and all persons who requested the opportunity were permitted to appear in person or by counsel.

The Commission made these determinations pursuant to section 751(c) of the Act (19 U.S.C. 1675(c)). It completed and filed its determinations in these reviews on October 10, 2017. The views of the Commission are contained in USITC Publication 4731 (October 2017), entitled Carbon and Alloy Seamless Standard, Line, and Pressure Pipe from Japan and Romania: Investigation Nos. 731-TA-847 and 849 (Third Review).

By order of the Commission.
Issued: October 11, 2017.
Lisa R. Barton,
Secretary to the Commission.

[FR Doc. 2017-22318 Filed 10-13-17; 8:45 am]

BILLING CODE 7020-02-P